DEPARTMENT OF TRANSPORTATION

Office of the Secretary

Notice of Applications for Certificates of Public Convenience and Necessity and Foreign Air Carrier Permits Filed Under Subpart B (Formerly Subpart Q) During the Week Ending December 16, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-23345.

Date Filed: December 13, 2005 .

Due Date for Answers, Conforming Applications, or Motion to Modify Scope: January 3, 2006.

Description: Application of Etihad Airways P.J.S.C. requesting a foreign air carrier permit to provide scheduled and charter foreign air transportation of persons, property and mail from points behind the United Arab Emirates via the United Arab Emirates and intermediate points to a point or points in the United States and beyond.

Docket Number: OST-2005-23352.

Date Filed: December 13, 2005.

Due Date for Answers, Conforming Applications, or Motion to Modify Scope: January 3, 2006.

Description: Application of Livingston S.p.A. requesting a foreign air carrier permit authorizing it to engage in charter foreign air transport of persons, property and mail from Italy, via intermediate points, to points in the United States and beyond, as well as such other charter authority permitted under the U.S.-Italy Open Skies Agreement and Part 212.

Renee V. Wright,
Program Manager, Docket Operations, Federal Register Liaison.

[FR Doc. E5-7964 Filed 12-27-05; 8:45 am]

BILLING CODE 4910-62-P